DEPARTMENT OF COMMERCE

National Oceanic and Atmospheric Administration

New England Fishery Management Council (NEFMC); Public Meeting

AGENCY: National Marine Fisheries Service (NMFS), National Oceanic and Atmospheric Administration (NOAA), Commerce.

ACTION: Notice of a public meeting.

SUMMARY: The New England Fishery Management Council (Council) will hold a three-day meeting on June 19-21, 2012 to consider actions affecting New England fisheries in the exclusive economic zone (EEZ).

DATES: The meeting will be held on Tuesday, Wednesday and Thursday, June 19-21, starting at 9 a.m. on Tuesday, and at 8:30 a.m. on Wednesday and Thursday.

ADDRESSES: The meeting will be held at the Holiday Inn by the Bay, 88 Spring Street, Portland, ME 04101; telephone: (207) 775-2311; fax: (207) 761-8224.

Council address: New England Fishery Management Council, 50 Water Street, Mill 2, Newburyport, MA 01950; telephone (978) 465-0492.

FOR FURTHER INFORMATION CONTACT: Paul J. Howard, Executive Director, New England Fishery Management Council; telephone: (978) 465-0492.

SUPPLEMENTARY INFORMATION:

Tuesday, June 19, 2012

Following introductions and any announcements, brief reports will be provided by the NEFMC Chairman and Executive Director, the Acting NOAA Fisheries Regional Administrator (Northeast Region), the Northeast Fisheries Science Center and Mid-Atlantic Fishery Management Council liaisons, NOAA General Counsel, representatives of the U.S. Coast Guard and the Atlantic States Marine Fisheries Commission, and staff from the regional Vessel Monitoring Systems Operations and Law Enforcement offices. The Council will then receive an update from NOAA Fisheries Northeast Regional Office staff about the development of a new amendment to address Standard Bycatch Reporting Methodology in all NEFMC fishery management plans (FMPs).

Following a lunch break, the Northeast Fisheries Science Center (NEFSC) will present a briefing on their new social science data collection efforts. Following this report, the Council's Habitat Committee will provide an overview of the discretionary provisions of the Magnuson-Stevens Fishery Conservation and Management Act that relate to deep sea corals. Its members may ask the Council to consider removing the coral alternatives from the Omnibus Essential Fish Habitat Amendment currently under development and address them in a separate action. There also will be an NEFSC presentation summarizing the most recent scientific information about climate change and its impact on fisheries in the Northeast. NOAA Fisheries staff will then address scoping for Amendment 7 to the Consolidated Highly Migratory Species Fishery Management Plan. This will include the scope and significance of issues to be analyzed in a draft environmental impact statement on management measures that address Atlantic bluefin tuna (BFT) management. Through the scoping process, NMFS will determine if existing measures are the best means of achieving certain management objectives for BFT and provide flexibility for future management. NMFS also will hold a scoping hearing on Monday evening, June 18 at the same location as the Council meeting for interested stakeholders and the public. Attendees are encouraged to check www.nero.noaa.gov or www.nefmc.org for the time. The day will conclude with a public listening session during which the Council will hold an informal question and answer session for stakeholders and the public. There also will be an opportunity for anyone to briefly comment on items relevant to Council business that is not otherwise listed on the agenda.

Wednesday, June 20, 2012

The Council will use the entire day on Wednesday to review and approve final measures to be included in Amendment 5 to the Atlantic Herring FMP. Amendment 5 proposes to establish a catch monitoring program for the herring fishery and address bycatch. It may include: adjustments to the fishery management program; measures to address carrier vessels and transfers at-sea; trip notification and permitting, and reporting requirements. If approved, other measures may address interactions with the Atlantic mackerel fishery, allocate observer coverage on limited access herring vessels, maximize sampling and address net slippage, address river herring bycatch and establish criteria for midwater trawl vessel access to groundfish closed areas.

Thursday, June 21, 2012

The third and final day of the NEFMC meeting will begin with reports from the Monkfish and Whiting Committees. The Monkfish Committee will ask the Council to consider a motion deferred from the April Council meeting that would remove Individually Transferrable Quotas from the range of alternatives under development in Amendment 6 to the Monkfish FMP. The Whiting Committee will ask for final approval of Amendment 19 draft management measures including alternatives to increase the whiting possession limit from 30,000 up to 40,000 pounds for vessels using trawls with 3-inch or larger mesh, in all or part of the Southern New England and Mid-Atlantic Exemption Areas. The rest of the day will be spent on issues that relate to the Northeast multispecies stock complex. The Council will discuss and possibly propose action to mitigate the impact of the low catch limits recently set for Georges Bank yellowtail flounder. It also will: receive a summary of the scoping comments submitted for proposed Amendment 18 to the Northeast Multispecies FMP; approve initial action on a framework adjustment to modify sector measures (including monitoring requirements), as well as set acceptable biological catches for fishing year 2013-15; and adjust annual catch limits and accountability measures.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 25, 2012.
Tracey L. Thompson,
Acting Director, Office of Sustainable Fisheries, National Marine Fisheries Service.

[FR Doc. 2012-13178 Filed 5-30-12; 8:45 am]

BILLING CODE 3510-22-P